DEPARTMENT OF THE INTERIOR

Bureau of Land Management

[LLCONO3400 L17110000.AL0000]

Notice of Establishment of the Dominguez-Escalante National Conservation Area Advisory Council (Colorado)

AGENCY: Bureau of Land Management, Interior.

ACTION: Notice.

SUMMARY: This notice is published in accordance with Section 9(a)(2) of the Federal Advisory Committee Act of 1972. Notice is hereby given that the Secretary of the Interior (Secretary) has established the Bureau of Land Management's Dominguez-Escalante National Conservation Area Advisory Council.

FOR FURTHER INFORMATION CONTACT: Allison Sandoval, Legislative Affairs and Correspondence (600), Bureau of Land Management, 1620 L Street, NW., MS-LS-401, Washington, DC 20036, telephone (202) 912-7434.

SUPPLEMENTARY INFORMATION: The purpose of the Council is to provide advice to the Secretary with respect to the preparation and implementation of the management plan for the long term protection and management of the Dominguez-Escalante National Conservation Area.

Certification Statement

I hereby certify that the establishment of the Dominguez-Escalante National Conservation Area Advisory Council is necessary and in the public interest in connection with the Secretary of the Interior's responsibilities to manage the lands, resources, and facilities administered by the Bureau of Land Management.

Dated: February 5, 2010.
Ken Salazar,
Secretary of the Interior.

[FR Doc. 2010-3388 Filed 2-19-10; 8:45 am]

BILLING CODE 4310-JB-P